DEPARTMENT OF ENERGY

Electric Vehicle Working Group

AGENCY: Office of Energy Efficiency and Renewable Energy, Department of Energy.

ACTION: Notice of establishment.

SUMMARY: The U.S. Department of Energy (DOE or the Department) and Department of Transportation (DOT) announce the establishment of the Electric Vehicle Working Group (EV Working Group), pursuant to the Infrastructure Investment and Jobs Act (IIJA), and in accordance with the Federal Advisory Committee Act (FACA), and the rules and regulations in implementation of that Act.

SUPPLEMENTARY INFORMATION: The EV Working Group is established by the Joint Office of Energy and Transportation to make recommendations to the Secretary of Energy and the Secretary of Transportation regarding the development, adoption, and integration of light-, medium-, and heavy-duty electric vehicles into the transportation and energy systems of the United States. The EV Working Group shall also develop three reports submitted to the Secretaries, the Committees on Commerce, Science, and Transportation and Appropriations of the Senate and the Committees on Transportation and Infrastructure and Appropriations of the House of Representatives describing the status of electric vehicle adoption including topics in section 25006(c)(1) of IIJA.

FOR FURTHER INFORMATION CONTACT: Rachael Nealer, Designated Federal Officer, Joint Office of Energy and Transportation, U.S. Department of Energy, 1000 Independence Avenue SW, Washington, DC 20585; telephone at (202) 586-3916, or email: EVWG@ee.doe.gov.

Signing Authority

This document of the Department of Energy was signed on June 8, 2022, by Miles Fernandez, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 8, 2022.
Treena V. Garrett,
Federal Register Liaison Officer, U.S. Department of Energy.

[FR Doc. 2022-12725 Filed 6-13-22; 8:45 am]

BILLING CODE 6450-01-P